DEPARTMENT OF DEFENSE

Department of the Army; Corps of Engineers

Chief of Engineers Environmental Advisory Board; Meeting

AGENCY: Department of the Army; U.S. Army Corps of Engineers, DoD.

ACTION: Notice of open meeting.

SUMMARY: In accordance with 10(a)(2) of the Federal Advisory Committee Act (Pub. L. 92-463), announcement is made of the forthcoming meeting. The meeting is open to the public.

Name of Committee: Chief of Engineers Environmental Advisory Board (EAB).

Date: May 15, 2003.

Location: Doubletree Hotel at Lloyd Center, 1000 NE Multnomah Blvd., Portland, Oregon 97232 (503) 281-6111.

Time: 9 a.m. to 3 p.m.

FOR FURTHER INFORMATION CONTACT: Mr. Norman Edwards, Headquarters, U.S. Army Corps of Engineers, Washington, DC 20314-1000; Ph: 202-761-4559.

SUPPLEMENTARY INFORMATION: The Board advises the Chief of Engineers on environmental policy, identification and resolution of environmental issues and missions, and addressing challenges, problems and opportunities in an environmentally sustainable manner. The theme of this meeting is the environmental aspects of the dams on the Snake River, fish passage, Columbia River channel improvement, and the Columbia Estuary Project. It is emphasized that this is not a public meeting on these subjects but will focus on selected aspects that may have national application. The intent of this meeting is to present an opportunity for the Chief of Engineers to receive the views of his EAB. Time will be provided, however, for public comment. Each speaker will be limited to no more than three minutes in order to accommodate as many people as possible within the limited time available. If you wish to receive electronic notice of future meetings you may subscribe to a list server at: http://www.usace.army.mil/inet/functions/cw/hot_topics/eab.htm.

Luz D. Ortiz,
Army Federal Register Liaison Officer.

[FR Doc. 03-10687 Filed 4-29-03; 8:45 am]

BILLING CODE 3710-92-M